DEPARTMENT OF DEFENSE

Office of the Secretary

Defense Science Board Task Force on DoD Frequency Spectrum Issues

ACTION: Notice of meeting.

SUMMARY: The Defense Science Board Task Force on DoD Frequency Spectrum Issues will meet in closed session on June 27-28, 2000, at SAIC, 4001 N. Fairfax Drive, Suite 500, Arlington, VA 22203.

The mission of the Defense Science Board is to advise the Secretary of Defense and the Under Secretary of Defense for Acquisition, Technology & Logistics on scientific and technical matters as they affect the perceived needs of the Department of Defense. At this meeting, the Task Force will examine the competing interest in and access to the RF frequency spectrum and its impact on military readiness and national security in the 21st century. This study will review and evaluate DOD user frequency spectrum requirements and related advances in technology to improve utilization of this finite resource.

In accordance with section 10(d) of the Federal Advisory Committee Act, Pub. L. 92-463, as amended (5 U.S.C. App II (1994)), it has been determined that this Defense Science Board Task Force meeting concerns matters listed in 5 U.S.C. 552b(c)(1) (1994), and that accordingly, this meeting will be closed to the public.

Dated: June 9, 2000.
L. M. Bynum,
Alternate OSD Federal Register Liaison Officer, Department of Defense.

[FR Doc. 00-15079 Filed 6-14-00; 8:45 am]

BILLING CODE 5001-10-M